DEPARTMENT OF HEALTH AND HUMAN SERVICES

Health Resources and Services Administration

Agency Information Collection Activities: Submission to OMB for Review and Approval; Public Comment Request; Scholarships for Disadvantaged Students Program Specific Form, OMB No. 0906-0073—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than September 15, 2025.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-3983.

SUPPLEMENTARY INFORMATION:

Information Collection Request Title: Scholarships for Disadvantaged Students Program Specific Form, OMB No. 0906-0073—Revision.

Abstract: HRSA seeks to collect data on the Scholarships for Disadvantaged Students (SDS) Program Specific Form, which will assist the agency in making funding decisions for SDS program awards. The SDS Program Specific Form and another form, the Bureau of Health Workforce (BHW) Program Specific Data Form, are currently approved under OMB No. 0906-0073 with an expiration date of November 30, 2025. This clearance is for the approval of one form, the SDS Program Specific Form, and removal of the BHW Program Specific Data Form. For programmatic efficiency, HRSA will move the BHW Program Specific Data Form to another ICR that reports data outcomes post grant award. The information collection request has been renamed to the Scholarships for Disadvantaged Students Program Specific Form in accordance with these updates.

A 60-day notice published in the Federal Register on May 28, 2025, Vol. 90, No. 101; pp. 22494. There were no public comments.

Need and Proposed Use of the Information: The SDS Program Specific Form seeks to assist HRSA in assessing applicants for the SDS Program, which makes grant awards to eligible schools to provide scholarships to full-time, financially needy students from disadvantaged backgrounds enrolled in health professions programs. To qualify for participation in the SDS program, a school must carry out a program in accordance with section 737(d)(1)(B) of the Public Health Service Act (42 U.S.C. 293a(d)(1)(B)). To meet this requirement, a school must provide data via the SDS Program Specific Form to confirm that at least 20 percent of the school's full-time enrolled students and graduates are from a disadvantaged background. Additionally, to successfully make awards, the Secretary of Health and Human Services shall give priority to eligible entities based on proportions of students/graduates in accordance with section 737(c) of the Public Health Service Act (42 U.S.C. 293a(c)). This form will be used to collect 3 years of student and participant data from SDS program applicants and does not include substantive changes.

Likely Respondents: Institutions that apply for SDS program awards.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
SDS Program Specific Form | 340 | 1 | 340 | 14 | 4,760
Total | 340 |  | 340 |  | 4,760

Maria G. Button,
Director, Executive Secretariat.

[FR Doc. 2025-15528 Filed 8-14-25; 8:45 am]

BILLING CODE 4165-15-P